DEPARTMENT OF COMMERCE

National Oceanic and Atmospheric Administration

50 CFR Part 216

[Docket No. 110781394-2048-02]

RIN 0648-BB09

Marine Mammals; Subsistence Taking of Northern Fur Seals; Harvest Estimates

AGENCY: National Marine Fisheries Service (NMFS), National Oceanic and Atmospheric Administration (NOAA), Commerce.

ACTION: Final estimates of annual fur seal subsistence needs.

SUMMARY: Pursuant to the regulations governing the subsistence taking of northern fur seals, NMFS is publishing the annual fur seal subsistence harvests on St. George and St. Paul Islands (the Pribilof Islands) for 2008 to 2010, and the annual estimates for the fur seal subsistence needs for 2011 through 2013. Alaska Natives on St. Paul harvested 328, 341, and 357 fur seals from 2008, 2009 and 2010, respectively, and 170, 113, and 78 fur seals on St. George Island during the same period. NMFS estimates the annual subsistence needs are 1,645-2,000 seals on St. Paul and 300-500 seals on St. George.

DATES: Effective March 12, 2012.

FOR FURTHER INFORMATION CONTACT: Michael Williams, (907) 271-5117, email Michael.Williams@noaa.gov; Kim Rivera, (907) 586-7424, email Kim.Rivera@noaa.gov; or Shannon Bettridge, (301) 427-8402, email Shannon.Bettridge@noaa.gov.

SUPPLEMENTARY INFORMATION:

Electronic Access

A Final Environmental Impact Statement, harvest reports, and other relevant information are available on the Internet at the following address: http://www.alaskafisheries.noaa.gov/protectedresources/seals/fur.htm.

The subsistence harvest from the depleted stock of northern fur seals, Callorhinus ursinus, on the Pribilof Islands, Alaska, is governed by regulations found in 50 CFR part 216, subpart F, Taking for Subsistence Purposes. The regulations require NMFS to publish every 3 years a summary of the harvest in the preceding 3 years, and to discuss the number of fur seals expected to be taken over the next 3 years to satisfy the subsistence requirements of residents of the Pribilof Islands (St. Paul and St. George). After a 30-day comment period, NMFS must publish a final notification of the expected annual harvest levels for the next 3 years.

On July 29, 2011 (76 FR 45499), NMFS published the summary of the 2008-2010 fur seal harvests and provided a 30-day comment period on the estimates of subsistence needs for the 2011-2013. No comments were received. Based on past studies, NMFS estimates the annual subsistence needs for Alaskan Natives for the next 3 years are 1,645-2,000 juvenile male fur seals on St. Paul Island, and 300-500 juvenile male fur seals on St. George Island. Background information related to these estimates was included in the proposed harvest estimates published in the Federal Register on July 29, 2011.

Classification

National Environmental Policy Act

NMFS prepared an Environmental Impact Statement (EIS) evaluating the impacts on the human environment of the subsistence harvest of northern fur seals. The Final EIS, which is available on the NMFS Web site (see Electronic Access) was subjected to public review (69 FR 53915, September 3, 2004), and the comments were incorporated into the final EIS (May 2005). Therefore, no further environmental impact analyses are required.

Executive Order 12866 and Regulatory Flexibility Act

This action has been determined not to be a significant rule under Executive Order (E.O.) 12866.

The Chief Counsel for Regulation, Department of Commerce, certified to the Chief Counsel for Advocacy of the Small Business Administration that this action would not have a significant economic impact on a substantial number of small entities. The harvest of northern fur seals on the Pribilof Islands, Alaska, is for subsistence purposes only, and the estimate of subsistence need would not have an adverse economic impact on any small entities. Background information related to the certification was included in the proposed estimates published in the Federal Register on July 29, 2011. We received no comments on this certification; therefore a regulatory flexibility analysis is not required for this action, and none has been prepared.

Paperwork Reduction Act

This action does not require the collection of information.

Executive Order 13132—Federalism

This action does not contain policies with federalism implications sufficient to warrant preparation of a federalism assessment under E.O. 13132 because this action does not have substantial direct effects on the states, on the relationship between the national government and the states, or on the distribution of power and responsibilities among the various levels of government. Nonetheless, NMFS worked closely with local governments in the Pribilof Islands, and these estimates of subsistence needs were prepared by the local governments in St. Paul and St. George, with assistance from NMFS officials.

Executive Order 13175—Native Consultation

Executive Order 13175 of November 6, 2000 (25 U.S.C. 450 Note), the executive Memorandum of April 29, 1994 (25 U.S.C. 450 note), and the American Indian Native Policy of the U.S. Department of Commerce (March 30, 1995) outline the responsibilities of the National Marine Fisheries Service in matters affecting tribal interests. Section 161 of Public Law 108-100 (188 Stat. 452) as amended by section 518 of Public Law 108-447 (118 Stat. 3267), extends the consultation requirements of E.O. 13175 to Alaska Native corporations. NMFS has contacted the tribal governments of St. Paul and St. George Islands and their respective local Native corporations (Tanadgusix and Tanaq) about setting the next three years harvest estimates and received their input.

Dated: February 3, 2012.
Alan D. Risenhoover,
Acting Deputy Assistant Administrator for Regulatory Programs, National Marine Fisheries Service.

[FR Doc. 2012-3052 Filed 2-8-12; 8:45 am]

BILLING CODE 3510-22-P